DEPARTMENT OF ENERGY

Federal Energy Regulatory Commission

Combined Notice of Filings

Take notice that the Commission has received the following Natural Gas Pipeline Rate and Refund Report filings:

Filings Instituting Proceedings

Docket Number: PR17-15-000.

Applicants: Columbia Gas of Maryland, Inc.

Description: Tariff filing per 284.123(b), (e)/: CMD SOC to be effective 1/1/2017; Filing Type: 980.

Filed Date: 1/5/2017.

Accession Number: 201701055071.

Comments/Protests Due: 5 p.m. ET 1/26/17.

Docket Number: PR17-16-000.

Applicants: Columbia Gas of Ohio, Inc.

Description: Tariff filing per 284.123(b), (e)/: COH SOC to be effective 12/30/2016; Filing Type: 980.

Filed Date: 1/6/2017.

Accession Number: 201701065044.

Comments/Protests Due: 5 p.m. ET 1/27/17.

Docket Numbers: RP17-325-000.

Applicants: Northern Natural Gas Company.

Description: § 4(d) Rate Filing: 20161219 FDD Cycle Quantity Increase to be effective 6/1/2017.

Filed Date: 1/5/17.

Accession Number: 20170105-5083.

Comments Due: 5 p.m. ET 1/17/17.

Docket Numbers: RP17-326-000.

Applicants: Elba Express Company, L.L.C.

Description: § 4(d) Rate Filing: Shell Phase I Negotiated Rate to be effective 2/10/2017.

Filed Date: 1/5/17.

Accession Number: 20170105-5136.

Comments Due: 5 p.m. ET 1/17/17.

Docket Numbers: RP17-327-000.

Applicants: Rockies Express Pipeline LLC.

Description: § 4(d) Rate Filing: Neg Rate 2017-01-05 BP to be effective 1/6/2017.

Filed Date: 1/5/17.

Accession Number: 20170105-5170.

Comments Due: 5 p.m. ET 1/17/17.

Docket Numbers: RP17-328-000.

Applicants: Dominion Carolina Gas Transmission, LLC.

Description: § 4(d) Rate Filing: DCGT—Web site Notification to be effective 2/6/2017.

Filed Date: 1/6/17.

Accession Number: 20170106-5098.

Comments Due: 5 p.m. ET 1/18/17.

Docket Numbers: RP17-329-000.

Applicants: Algonquin Gas Transmission, LLC.

Description: § 4(d) Rate Filing: Negotiated Rate Agreement—Castleton 510984 to be effective 1/8/2017.

Filed Date: 1/6/17.

Accession Number: 20170106-5133.

Comments Due: 5 p.m. ET 1/18/17.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-1179-002.

Applicants: Equitrans, L.P.

Description: Compliance filing Negotiated Rate Service Agreement—Revised EQT Energy OVC Agreement to be effective 10/1/2016.

Filed Date: 12/21/16.

Accession Number: 20161221-5081.

Comments Due: 5 p.m. ET 1/13/17.

Docket Numbers: RP17-197-002.

Applicants: Dominion Cove Point LNG, LP.

Description: Compliance filing DCP—2016 Section 4 General Rate Case Compliance to be effective 1/1/2017.

Filed Date: 1/5/17.

Accession Number: 20170105-5086.

Comments Due: 5 p.m. ET 1/17/17.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 9, 2017.
Kimberly D. Bose,
Secretary.

[FR Doc. 2017-00924 Filed 1-17-17; 8:45 am]

BILLING CODE 6717-01-P